ENVIRONMENTAL PROTECTION AGENCY

[FRL- 9915-68-AO]

Notification of a Public Teleconference of the Science Advisory Board Advisory Panel for the Review of the EPA Report on the Environment 2014

AGENCY: Environmental Protection Agency.

ACTION: Notice.

SUMMARY: The Environmental Protection Agency (EPA) Science Advisory Board (SAB) Staff Office announces a public teleconference of the SAB Panel to discuss its draft advisory report concerning the EPA draft Report on the Environment 2014.

DATES: The public teleconference will be held on Friday, October 3, 2014, from 1:00 p.m. to 5:00 p.m. (Eastern Time).

Location: The public teleconference will be conducted by telephone only.

FOR FURTHER INFORMATION CONTACT: Any member of the public wishing to obtain information concerning the public teleconference may contact Ms. Stephanie Sanzone, Designated Federal Officer (DFO), EPA Science Advisory Board Staff Office (1400R), U.S. Environmental Protection Agency, 1200 Pennsylvania Avenue NW., Washington, DC 20460; via telephone at (202) 564-2067 or email at sanzone.stephanie@epa.gov. General information concerning the SAB as well as any updates concerning the teleconference announced in this notice may be found on the EPA Web site at http://www.epa.gov/sab.

SUPPLEMENTARY INFORMATION: The SAB was established pursuant to the Environmental Research, Development, and Demonstration Authorization Act (ERDDAA), codified at 42 U.S.C. 4365, to provide independent scientific and technical advice to the Administrator on the technical basis for Agency positions and regulations. The SAB is a federal advisory committee chartered under the Federal Advisory Committee Act (FACA), 5 U.S.C., App. 2. The SAB complies with the provisions of FACA and all appropriate SAB Staff Office procedural policies. Pursuant to FACA and EPA policy, notice is hereby given that the SAB Advisory Panel on EPA's Report on the Environment 2014 will hold a public meeting to discuss its draft advisory report on the Agency's draft Report on the Environment (ROE) 2014. This SAB panel will provide advice to the Administrator through the chartered SAB.

Background: The SAB Advisory Panel on EPA's Report on the Environment 2014 previously held a face-to-face meeting on July 30-31, 2014 (79 FR 40101-40103) to respond to charge questions regarding EPA's draft Report on the Environment 2014, available online at http://www.epa.gov/draftroe. Specifically, the Agency has requested the SAB to comment on the clarity of the ROE objectives for various audiences, the overarching conceptual framework based on a sustainability theme, the addition of statistical information for individual indicators, and the presentation of the ROE 2014 features in an online format. The purpose of the upcoming teleconference is for the SAB Panel to discuss its draft advisory report.

Technical Contact: For technical questions and information concerning the EPA draft Report on the Environment 2014, please contact Dr. Jeffrey Frithsen, National Center for Environmental Assessment, Office of Research and Development, U.S. EPA, 1200 Pennsylvania Avenue NW., Mail Code 8601P, Washington, DC 20460, telephone (703) 347-8623 or via email at frithsen.jeffrey@epa.gov.

Availability of Meeting Materials: Prior to the teleconference, the meeting agenda, the SAB Panel's draft advisory report, and any other meeting materials will be accessible through the calendar link on the blue navigation bar of the SAB Web site at http://www.epa.gov/sab.

Procedures for Providing Public Input: Public comment for consideration by EPA's federal advisory committees and panels has a different purpose from public comment provided to EPA program offices. Therefore, the process for submitting comments to a federal advisory committee is different from the process used to submit comments to an EPA program office.

Federal advisory committees and panels, including scientific advisory committees, provide independent advice to EPA. Members of the public can submit comments for a federal advisory committee to consider as it develops advice for EPA. Input from the public to the SAB will have the most impact if it provides specific scientific or technical information or analysis for SAB panels to consider or if it relates to the clarity or accuracy of the technical information. Members of the public wishing to provide oral statements to the SAB Panel should contact the DFO directly. Oral Statements: In general, individuals or groups requesting an oral presentation at a public teleconference will be limited to three minutes. Interested parties should contact Ms. Stephanie Sanzone, DFO, in writing (preferably via email) at the contact information noted above by

September 26, 2014 to be placed on the list of public speakers. Written Statements: Written statements should be supplied to the DFO via email at the contact information noted above by September 26, 2014 so that the information may be made available to the Panel members for their consideration. Written statements should be supplied in one of the following electronic formats: Adobe Acrobat PDF, MS Word, MS PowerPoint, or Rich Text files in IBM-PC/Windows format. It is the SAB Staff Office general policy to post written comments on the Web page for the advisory meeting or teleconference. Submitters are requested to provide an unsigned version of each document because the SAB Staff Office does not publish documents with signatures on its Web sites. Members of the public should be aware that their personal contact information, if included in any written comments, may be posted to the SAB Web site. Copyrighted material will not be posted without explicit permission of the copyright holder.

Accessibility: For information on access or services for individuals with disabilities, please contact Ms. Sanzone at (202) 564-2067 or via email at sanzone.stephanie@epa.gov. To request accommodation of a disability, please contact Ms. Sanzone preferably at least ten days prior to the teleconference to give EPA as much time as possible to process your request.

Dated: August 20, 2014.
Thomas H. Brennan,
Deputy Director, EPA Science Advisory Board Staff Office.

[FR Doc. 2014-20786 Filed 8-29-14; 8:45 am]

BILLING CODE 6560-50-P